DEPARTMENT OF HOUSING AND URBAN DEVELOPMENT

[Docket No. FR-5859-N-02]

Advance Notice of Digital Opportunity Demonstration; Additional Contact Information

AGENCY: Office of the General Counsel, HUD.

ACTION: Notice.

SUMMARY: On April 3, 2015, HUD published a Federal Register notice, at 80 FR 18248, soliciting advance comment on a demonstration designed to test the effectiveness of collaborative efforts by government, industry, and nonprofit organizations to accelerate broadband adoption and use in HUD-assisted homes. The April 3, 2015, notice describes the criteria HUD will use to assess communities that have expressed an interest in participating in the demonstration. To determine interest, HUD seeks a formal commitment by the mayor or equivalent executive elected official of the community, and the PHA executive leader, to narrow the broadband digital divide. Communities interested in participating in this demonstration may use DigitalOpportunityDemonstration@hud.gov to notify HUD of their commitment to narrow the broadband digital divide. Communities and other interested members of the public wishing to comment on the April 3, 2015, notice must follow the instructions for submission of public comments as provided in the April 3, 2015, notice.

FOR FURTHER INFORMATION CONTACT: Camille E. Acevedo, Associate General Counsel for Legislation and Regulations, Office of General Counsel, Department of Housing and Urban Development, 451 Seventh Street SW., Room 10282, Washington, DC 20410-7000, telephone number 202-402-5132 (this is not a toll-free number). Persons with hearing or speech impairments may access this number through TTY by calling the Federal Relay Service at 800-877-8339 (this is a toll-free number).

Dated: April 8, 2015.
Camille E. Acevedo,
Associate General Counsel for Legislation and Regulations.

[FR Doc. 2015-08540 Filed 4-13-15; 8:45 am]

BILLING CODE 4210-67-P